DEPARTMENT OF JUSTICE

Bureau of Alcohol, Tobacco, Firearms and Explosives [ATF Notice No. 4; ATF O 1100.75C, Docket No. 2003-39]

Delegation Order—Authority To Make Determinations on Applications for Restoration of Federal Firearms and/or Explosives

1. Purpose. This order delegates certain authorities of the Director to subordinate Bureau of Alcohol, Tobacco, Firearms and Explosives (ATF) officials to make determinations on applications for restoration of Federal firearms and/or explosives privileges.

2. Cancellation. This order cancels ATF O 1100.75B, Delegation Order—Authority to Affix Signature—Applications for Restoration of Privileges, dated April 6, 2001.

3. Delegation. Under the authority vested in the Director, ATF, by Department of Justice Final Rule [AG Order No. 2650-2003] as published in the Federal Register on January 31, 2003, and by title 28 CFR 0.130 and 0.131, the Assistant Director (Firearms, Explosives and Arson) is to make determinations on applications for restoration of Federal firearms and/or explosives privileges.

4. Questions. Questions regarding this order should be addressed to the Chief, Firearms Programs Division, 202-927-7770; or the Chief, Arson and Explosives Programs Division, 202-927-7930.

Dated: September 17, 2003.
Bradley A. Buckles,
Director.

[FR Doc. 03-24738 Filed 9-29-03; 8:45 am]

BILLING CODE 4410-FY-P